DEPARTMENT OF HEALTH AND HUMAN SERVICES

Administration on Aging

Notice of Establishment of Policy Committee for the 2005 White House Conference on Aging

AGENCY: Administration on Aging, HHS.

ACTION: Notice of establishment of the Policy Committee for the 2005 White House Conference on Aging.

SUMMARY: Pursuant to Section 10(a) of the Federal Advisory Committee Act as amended (5 U.S.C. appendix 2), notice is hereby given that the Charter establishing the Policy Committee for the 2005 White House Conference on Aging has been completed and signed by Health and Human Services Secretary Tommy Thompson on June 15, 2004.

FOR FURTHER INFORMATION CONTACT: Mame Templeton, White House Conference on Aging, Administration on Aging, Department of Health and Human Services, Washington, DC 20201, 202-357-3514, Mame.Templeton@aoa.hhs.gov.

Any interested person may file written comments with the Policy Committee by forwarding the statement to the contact person listed on this notice. The statement should include the name, address, telephone number, email address, and when applicable, the business or professional affiliation of the interested person.

SUPPLEMENTARY INFORMATION:

I. Background and Authority

Pursuant to the Older Americans Act Amendments of 2000 (Pub. L. 106-501, November 2000), the President will convene a White House Conference on Aging no later than December 31, 2005, to develop recommendations for additional research and action in the field of aging. The Secretary of Health and Human Services is responsible for planning and conducting the Conference in cooperation with the Assistant Secretary for Aging, the Director of the National Institute on Aging, the Administrator of the Centers for Medicare and Medicaid Services, the Commissioner of Social Security, and the heads of such other Federal departments and agencies as are appropriate.

II. Structure

According to the Older Americans Act Amendments of 2000 (Pub. L. 106-501, November 2000), the Policy Committee is composed of 17 members, including the Chairman, who was selected by the President from among the members of the Committee. The 17 members were appointed as follows:

(A) Presidential Appointees—Nine members were selected by the President and include three members who are officers or employees of the United States and six members with experience in the field of aging, including providers and consumers of aging services.

(B) House Appointees—Two members were selected by the Speaker of the House of Representatives, after consultation with the Committee on Education and the Workforce and the Committee on Ways and Means of the House of Representatives; and two members were selected by the Minority Leader of the House of Representatives, after consultation with such committees.

(C) Senate Appointees—Two members were selected by the Majority Leader of the Senate, after consultation with members of the Committee on Health, Education, Labor and Pensions and the Special Committee on Aging of the Senate; and two members were selected by the Minority Leader of the Senate, after consultation with members of such committees.

Support services will be provided by the Office of the Executive Director of the White House Conference on Aging. The Secretary may establish such other committees, including technical committees, as may be necessary to assist in the planning, conducting, and reviewing of the Conference. The Committee will notify the Department Committee Management Officer upon establishing any subcommittees and provide all required information, including name, membership, and functions of any such subcommittee(s) and estimated frequency of meetings. Any subcommittee will be composed exclusively of Committee members. The Committee Chairperson will appoint the chairperson of any subcommittee. Any subcommittee will comply with the applicable requirements of the Federal Advisory Committee Act.

III. Compensation

Appointed members of any such committee (other than any officers or employees of the Federal Government), while attending conferences or meetings of the committee or otherwise serving at the request of the Secretary, shall be entitled to receive compensation at a rate to be fixed by the Secretary, but not to exceed the daily equivalent of the maximum rate of pay payable under section 5376 of title 5, United States Code (including travel time). While away from their homes or regular places of business, such members may be allowed travel expenses, including per diem in lieu of subsistence, as authorized under section 5703 of such title for persons employed intermittently in Federal Government service.

Dated: June 15, 2004.
Ann Y. McGee,
Executive Director, White House Conference on Aging.

[FR Doc. 04-14034 Filed 6-21-04; 8:45 am]

BILLING CODE 4154-01-P